NUCLEAR REGULATORY COMMISSION

[NRC-2017-0174]

Information Collection: 10 CFR Part 100 “Reactor Site Criteria”

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled 10 CFR part 100, “Reactor Site Criteria.”

DATES: Submit comments by February 28, 2018.

ADDRESSES: Submit comments directly to the OMB reviewer at: Brandon De Bruhl, Desk Officer, Office of Information and Regulatory Affairs (3150-0093), NEOB-10202, Office of Management and Budget, Washington, DC 20503; telephone: 202-395-0710, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2017-0174 when contacting the NRC about the availability of information for this action. You may obtain publicly-available information related to this action by any of the following methods:

• Federal Rulemaking website: Go to http://www.regulations.gov and search for Docket ID NRC-2017-0174.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement is available in ADAMS under Accession No. ML17298A191.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Reactor Site Criteria.” The NRC hereby informs potential respondents that an agency may not conduct or sponsor, and that a person is not required to respond to, a collection of information unless it displays a currently valid OMB control number.

The NRC published a Federal Register notice with a 60-day comment period on this information collection on August 9, 2017, (82 FR 37241).

1. The title of the information collection: “10 CFR part 100, Reactor Site Criteria.”

2. OMB approval number: 3150-0093.

3. Type of submission: Extension.

4. The form number if applicable: Not applicable.

5. How often the collection is required or requested: As necessary in order for the NRC to assess the adequacy of proposed seismic design bases and the design bases for other site hazards for nuclear power and test reactors constructed and licensed in accordance with parts 50 and 52 of title 10 of the Code of Federal Regulations and the Atomic Energy Act of 1954, as amended.

6. Who will be required or asked to respond: Applicants who apply for an early site permit (ESP), combined license (COL) or a construction permit (CP) or operating license (OL) on or after January 10, 1997.

7. The estimated number of annual responses: 1.3.

8. The estimated number of annual respondents: 1.3.

9. An estimate of the total number of hours needed annually to comply with the information collection requirement or request: 94,900 hours (73,000 hours per application × 1.3 applications).

10. Abstract: Title 10 of the Code of Federal Regulations, Part 100, “Reactor Site Criteria,” establish approval requirements for proposed sites for the purpose of constructing and operating stationary power and testing reactors. Subpart B, “Evaluation Factors for Stationary Power Reactor Site Applications on or After January 10, 1997,” requirements apply to applicants who apply for an early site permit (ESP), combined license (COL) or a construction permit (CP) or operating license (OL) on or after January 10, 1997. This clearance is necessary since the NRC is expecting approximately two COL, one CP, and one OL application over the next 3 years. The applicants must provide information regarding the physical characteristics of the site in addition to the potential for natural phenomena and man-made hazards. This includes information on meteorological hazards (such as hurricanes, tornadoes, snowfall, and extreme temperatures), hydrologic hazards (such as floods, tsunami, and seiches) geologic hazards (such as faulting, seismic hazards, and the maximum credible earthquake) and factors such as population density, the proximity of man-related hazards, and site hydrological and atmospheric dispersion characteristics. The NRC staff reviews the submitted information and, if necessary, generates a request for additional information. The staff meets with the applicant and conducts a site visit to resolve any open issues. When the open issues have been resolved, the staff writes the final safety evaluation report, which is published and used as a basis for the remainder of the NRC licensing process.

Dated at Rockville, Maryland, this 17th day of January 2018.
For the Nuclear Regulatory Commission.
David Cullison,
NRC Clearance Officer, Office of the Chief Information Officer.

[FR Doc. 2018-01543 Filed 1-26-18; 8:45 am]

BILLING CODE 7590-01-P